DEPARTMENT OF COMMERCE

National Oceanic and Atmospheric Administration

[I.D. 051004F]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in June.

DATES: The meeting will be held on Monday, June 7, 2004 through Tuesday, June 15, 2004. See SUPPLEMENTARY INFORMATION for specific dates and times.

ADDRESSES: The meetings will be held at the Benson Hotel, 309 Southwest Broadway, Portland, OR 97205.

Council address: North Pacific Fishery Management Council, 605 W. 4th Avenue, Suite 306, Anchorage, AK 99501-2252.

FOR FURTHER INFORMATION CONTACT: Council staff; telephone: 907-271-2809.

SUPPLEMENTARY INFORMATION: The Council's Advisory Panel will begin at 8 a.m., Monday, June 7, and continue through Saturday, June 12, 2004. The Scientific and Statistical Committee will begin at 8 a.m. on Monday, June 7, and continue through Wednesday, June 9, 2004.

The Council will begin its plenary session at 8 a.m. on Wednesday, June 9 continuing through Tuesday, June 15. All meetings are open to the public except executive sessions. The Enforcement Committee will meet Tuesday, June 8 from 1 pm to 5 pm, Parliament Room 3 & 4.

Council Plenary Session: The agenda for the Council's plenary session will include the following issues. The Council may take appropriate action on any of the issues identified.

1. Reports

a. Executive Director's Report

b. NMFS Management Report

c. Enforcement Report

d. Coast Guard Report

e. Alaska Department of Fish and Game Report

f. U.S. Fish and Wildlife Service Report

2. Bering Sea/Aleutian Island (BSAI) Crab Rationalization Environmental Impact Statement (EIS): Final Action on Crab Rationalization EIS.

3. Draft Programmatic Groundfish Supplemental Environmental Impact Statement (DPSEIS): Develop timeline for management policy/action as necessary. Initial/Final Review of Groundfish Fishery Management Plans (FMP) Revisions.

4. Essential Fish Habitat (EFH) and Habitat Area Particular Concern (HAPC): Finalize HAPC alternatives for analysis. Review comments on EFH EIS, and take action as necessary.

5. Aleutian Island Pollock: Final action to establish Adak pollock allocation.

6. Gulf of Alaska (GOA) Rockfish Pilot Program: Discuss alternatives and options for analysis/action as necessary.

7. Improved Retention/Improved Utilization (IR/IU): Receive progress report on Amendment 80 and discussion papers/action as necessary.

8. Observer Program (T): Receive update on analysis/action as necessary.

9. Community Development Quota (CDQ) Program: Initial Review of analysis on fishery management issues/other action as necessary.

10. Steller Sea Lion (SSL) Mitigation Measures: Initial Review and final to adjust measures in GOA.

11. Scallop FMP: Initial Review of analysis to modify the license limitation program and update the FMP/action as necessary.

12. Groundfish FMP: Receive report from Non-Target Species Committee/action as necessary.

13. Staff Tasking: Review tasking and provide direction to staff/action as necessary.

14. Other Business: National Standard 1 - review/comment on proposed rule. Crab overfishing definition/plan team report/action as necessary. Salmon Experimental Permit - receive report/action as necessary. SSL/Pacific cod interaction study - receive report/action as necessary. Seabird EFP - receive report/action as necessary. (T)

Scientific and Statistical Committee (SSC): The SSC agenda will include the following issues:

1. DPSEIS

2. EFH and HAPC

3. Aleutian Island Pollock

4. CDQ Program

5. SSL Mitgation Measures

6. Scallop FMP

7. Crab Overfishing Definition

8. Salmon Experimental Fishing Permit

9. National Standard One

10. SSL/Pacific Cod Interaction Report

11. Seabird EFP

Advisory Panel: The Advisory Panel will address the same agenda issues as the Council.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: May 18, 2004.
Matteo J. Milazzo,
Acting Director, Office of Sustainable Fisheries, National Marine Fisheries Service.

[FR Doc. 04-11583 Filed 5-20-04; 8:45 am]

BILLING CODE 3510-22-S